DEPARTMENT OF THE INTERIOR

Minerals Management Service

Outer Continental Shelf (OCS) Policy Committee; Notice and Agenda for Meeting

AGENCY: Minerals Management Service, Interior.

ACTION: Notice of meeting.

SUMMARY: The OCS Policy Committee will meet at the Washington Dulles Crowne Plaza Hotel in Herndon, Virginia.

DATES: Wednesday, March 5, 2008, 8:30 a.m. to 5:30 p.m. and Thursday, March 6, 2008, from 8:30 a.m. to 12:30 p.m.

ADDRESSES: The Washington Dulles Crowne Plaza Hotel, 2200 Centreville Road, telephone (703) 471-6700.

FOR FURTHER INFORMATION CONTACT: Ms. Jeryne Bryant at Minerals Management Service, 381 Elden Street, Mail Stop 4001, Herndon, Virginia 20170-4187. She can be reached by telephone at (703) 787-1211 or by electronic mail at jeryne.bryant@mms.gov.

SUPPLEMENTARY INFORMATION: The OCS Policy Committee represents the collective viewpoint of coastal states, local government, environmental community, industry and other parties involved with the OCS Program. It provides policy advice to the Secretary of the Interior through the Director of the MMS on all aspects of leasing, exploration, development, and protection of OCS resources.

The agenda for Wednesday, March 5 will cover the following principal subjects:

Status of the 5-Year Outer Continental Shelf Oil and Gas Leasing Program and Results to Date. This presentation will provide an update on the 2007-2012 Leasing Program and lease sales results in the Gulf of Mexico and Alaska. The OCS Policy Committee's 5-Year OCS Oil and Gas Leasing Program Subcommittee will also report on its activities and future plans.

A State's Perspective on Alternative Energy. This presentation will provide an opportunity for a non-OCSPC member state to share its alternative energy experience and future plans.

Status of OCS Alternative Energy Program. This presentation will provide an update on the MMS's OCS Alternative Energy Program that has been authorized to manage access and balance competing uses of the OCS while ensuring appropriate environmental safeguards. The OCS Policy Committee's OCS Alternative Energy Subcommittee will also report on its activities and future plans.

State Members' Round Table Discussion of Offshore Energy Issues. State representatives to the OCS Policy Committee will discuss offshore energy development (conventional and alternative) issues from the perspective of their respective states. This session will provide Committee members, MMS representatives, and other participants with a better and more comprehensive understanding of the various issues as perceived by the states and provide an update on their activities.

Importance of OCS to Nation's Future Energy Security. This presentation will examine the contributions the OCS can make towards the production of energy.

Legislative Update. This presentation will address legislative activity pertinent to the OCS program.

Committee Forum. Time has been set aside for the Committee members to have an open discussion on topics of interest in their respective fields.

The agenda for Thursday, March 6 will cover the following principal subjects:

MMS Regional Issues. The Regional Directors will highlight activities off the California and Alaska coasts and the Gulf of Mexico.

Status of Marine Minerals Program. This presentation will provide an update on the MMS's Marine Minerals Program. The OCS Policy Committee's Hard Minerals Subcommittee will also report on its activities and future plans.

Ultra Deepwater—Advances in Drilling and Development. This presentation will provide an update on the current state of technology.

Gulf of Mexico Security Act of 2006 (GOMESA). This presentation will provide an update on the MMS's responsibilities under GOMESA and highlight issues related to its revenue sharing provision.

OCS Scientific Committee Update. This presentation will address current activities of the OCS Scientific Committee and its subcommittees.

The meeting is open to the public. Approximately 100 visitors can be accommodated on a first-come-first-served basis.

Upon request, interested parties may make oral or written presentations to the OCS Policy Committee. Such requests should be made no later than February 29, 2008, to Jeryne Bryant. Requests to make oral statements should be accompanied by a summary of the statement to be made. Please see FOR FURTHER INFORMATION CONTACT section for address and telephone number.

Minutes of the OCS Policy Committee meeting will be available for public inspection and copying at the MMS in Herndon, Virginia.

Authority: Federal Advisory Committee Act, Pub. L. 92-463, 5 U.S.C. Appendix 1, and the Office of Management and Budget's Circular No. A-63, Revised.

Dated: February 1, 2008.
Chris C. Oynes,
Associate Director for Offshore Minerals Management.

[FR Doc. E8-3288 Filed 2-20-08; 8:45 am]

BILLING CODE 4310-MR-P